DEPARTMENT OF HEALTH AND HUMAN SERVICES

Health Resources and Services Administration

Public Hearing; Notice of Meeting

In accordance with section 10(a) (2) of the Federal Advisory Committee Act (Public Law 92-463), announcement is made of the following National Advisory body scheduled to meet during the month of December.

Name: Advisory Commission on Childhood Vaccines (ACCV).

Date and Time: December 5, 2001; 9 a.m.-4 p.m.

Place: Parklawn Building, Conference Rooms G & H, 5600 Fishers Lane, Rockville, Maryland 20857, and Audio Conference Call.

The full ACCV will meet on Wednesday, December 5, from 9:00 a.m. to 4:00 p.m. The public can join the meeting in person at the address listed above or by audio conference call by dialing 1-888-316-9406, and providing the following information:

Leader's Name: Thomas E. Balbier, Jr.

Password: ACCV.

The agenda items will include, but not limited to: a discussion of proposed legislation from the House Committee on Government Reform; a discussion of a possible alternative standard for the adjudication of claims for non-table injuries; a discussion on the interim payment of medical expenses; a presentation from petitioners attorneys' perspective; a discussion of the legislative proposal for reversionary trusts; a presentation on the Institute of Medicine's Report, “Thimerosal-Containing Vaccines and Neurodevelopmental Disorders”; and updates from the National Vaccine Injury Compensation Program, the Department of Justice, and the National Vaccine Program Office.

Public comment will be permitted at the end of the ACCV meeting on December 5, 2001. Oral presentations will be limited to 5 minutes per public speaker. Persons interested in providing an oral presentation should submit a written request, along with a copy of their presentation to:

Ms. Cheryl Lee, Principal Staff Liaison, Division of Vaccine Injury Compensation, Office of Special Programs, Health Resources and Services Administration, Room 8A-46, 5600 Fishers Lane, Rockville, MD 20857. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of their assigned presentation time.

Persons who do not file an advance request for a presentation, but desire to make an oral statement, may sign-up in Conference Rooms G and H on December 5, 2001. These persons will be allocated time as time permits.

Anyone requiring information regarding the ACCV should contact Ms. Cheryl Lee, Principal Staff Liaison, Division of Vaccine Injury Compensation, Office of Special Programs, Health Resources and Services Administration, Room 8A-46, 5600 Fishers Lane, Rockville, Maryland 20857, telephone (301) 443-2124 or e-mail: clee@hrsa.gov.

Agenda items are subject to change as priorities dictate.

Dated: November 14, 2001.
James J. Corrigan,
Associate Administrator for Management and Program Support.

[FR Doc. 01-28963 Filed 11-19-01; 8:45 am]

BILLING CODE 4165-15-P